DEPARTMENT OF LABOR

Occupational Safety and Health Administration

[Docket No. OSHA-2010-0013]

SolarPTL, LLC.: Request for Renewal of Recognition

AGENCY: Occupational Safety and Health Administration (OSHA), Labor.

ACTION: Notice.

SUMMARY: In this notice, OSHA announces the application of SolarPTL, LLC. (PTL), requesting renewal of recognition as a Nationally Recognized Testing Laboratory (NRTL).

DATES: Submit comments, information, and documents in response to this notice, or requests for an extension of time to make a submission, on or before February 18, 2021.

ADDRESSES:

Electronically: You may submit comments and attachments electronically at: http://www.regulations.gov, which is the Federal eRulemaking Portal. Follow the instructions online for submitting comments.

Mail, hand delivery, express mail, messenger, or courier service: When using this method, you must submit a copy of your comments and attachments to the OSHA Docket Office, Docket No. OSHA-2010-0013, Occupational Safety and Health Administration, U.S. Department of Labor, Room N-3653, 200 Constitution Avenue NW, Washington, DC 20210; telephone (202) 693-2350. OSHA's TTY number is (877) 889-5627. Please note: While OSHA's docket office is continuing to accept and process submissions by regular mail, due to the COVID-19 pandemic, the Docket Office is closed to the public and not able to receive submissions to the record by express delivery, hand delivery and messenger service.

Instructions: All submissions must include the agency name and OSHA docket number (OSHA-2010-0013). All comments, including any personal information you provide, such as social security numbers and date of birth, are placed in the public docket without change, and may be made available online at https://www.regulations.gov.

Docket: To read or download comments or other material in the docket, go to https://www.regulations.gov. All documents in the docket (including this Federal Register notice) are listed in the https://www.regulations.gov index; however, some information (e.g., copyrighted material) is not publicly available to read or download through the website. All submissions, including copyrighted material, are available for inspection through the OSHA Docket Office. You may also contact Kevin Robinson, Director Office of Technical Programs and Coordination Activities (OTPCA) at the below address.

FOR FURTHER INFORMATION CONTACT: Information regarding this notice is available from the following sources:

Press inquiries: Contact Mr. Frank Meilinger, Director, OSHA Office of Communications, U.S. Department of Labor, telephone: (202) 693-1999; email: meilinger.francis2@dol.gov.

General and technical information: Contact Mr. Kevin Robinson, Director, Office of Technical Programs and Coordination Activities, Directorate of Technical Support and Emergency Management, Occupational Safety and Health Administration, U.S. Department of Labor, phone: (202) 693-2110 or email: robinson.kevin@dol.gov.

SUPPLEMENTARY INFORMATION:

I. Background

OSHA recognition of a NRTL signifies that the organization meets the requirements in Section 1910.7 of Title 29, Code of Federal Regulations (29 CFR 1910.7). Recognition is an acknowledgment that the organization can perform independent safety testing and certification of the specific products covered within the scope of recognition and is not a delegation or grant of government authority. As a result of recognition, employers may use products properly approved by the NRTL to meet OSHA standards that require testing and certification. OSHA maintains an informational web page for each NRTL that details the scope of recognition available at https://www.osha.gov/dts/otpca/nrtl/index.html.

OSHA processes applications by a NRTL for renewal of recognition following requirements in Appendix A to 29 CFR 1910.7. OSHA conducts renewals in accordance with the procedures in 29 CFR 1910.7, Appendix A, paragraph II.C. In accordance with these procedures, NRTLs submit a renewal request to OSHA, not less than nine months or no more than one year, before the expiration date of the current recognition. The submission includes a request for renewal and any additional information the NRTL wishes to submit to demonstrate continued compliance with the terms of the NRTL recognition and 29 CFR 1910.7. If OSHA has not conducted an on-site assessment of the NRTL's headquarters and key sites within the past 18 to 24 months, it will schedule the necessary on-site assessments prior to the expiration date of the NRTL's recognition. Upon review of the submitted material and, as necessary, the successful completion of the on-site assessment, OSHA announces the preliminary decision to grant or deny renewal in the Federal Register and solicit comments from the public. OSHA then publishes a final Federal Register notice responding to any comments and renewing the NRTL's recognition for a period of five years, or denying the renewal of recognition.

The current address of the PTL facility recognized by OSHA and included as part of the renewal request is: SolarPTL, 1107 West Fairmont Avenue, Tempe, Arizona 85252.

PTL initially received OSHA recognition as a NRTL in a Federal Register notice (76 FR 16452, March 23, 2011). PTL was previously recognized by OSHA as TUV Rheinland PTL, whose name was changed following a sale to SolarPTL in October 2018. PTL submitted a timely request for renewal, dated April 2, 2015 (OSHA-2010-0013), and retains their recognition pending OSHA's final decision in this renewal process. OSHA assessments of PTL during this recognition period (February 18-22, 2016; November 14-15, 2017; and January 30-31, 2019) identified nonconformities with 29 CFR 1910.7. Although PTL worked to resolve these nonconformities, it took several years for PTL to demonstrate compliance with 29 CFR 1910.7.

As a result of the nonconformities identified during OSHA's assessments of PTL during this recognition period, PTL must abide by the conditions noted below in addition to those conditions already required by 29 CFR 1910.7:

1. PTL must inform OSHA as soon as possible, in writing, of any change of

ownership, facilities, or key personnel, and of any major change in their operations as a NRTL, and provide details of the change(s);

2. PTL must agree to increased OSHA oversight of their operations including:

(a) More frequent on-site assessments of PTL facilities; and

(b) PTL shall continue to provide OSHA with written notification of any new or revised NRTL certificates that are issued on or after December 14, 2017, within 7 days of issuing the certification. This notification shall include:

(a) Name and address of the applicant;

(b) Model number(s) for the certified products;

(c) PTL Certification number;

(d) PTL Project number;

(e) Name of PTL staff involved with the project; and

(f) Location where the product evaluation and testing took place.

3. Upon request, PTL must provide copies of the test data, certification report or other related information for new or revised certifications to OSHA.

II. Notice of Preliminary Findings

OSHA is providing notice that PTL is applying for renewal of recognition as a NRTL. This renewal covers PTL's existing NRTL scope of recognition. OSHA evaluated PTL's application for renewal and preliminarily determined that PTL can continue to meet the requirements prescribed by 29 CFR 1910.7 for recognition. This information includes OSHA's audits of PTL's recognized NRTL site during this recognition period, and the satisfactory resolution of nonconformities with the requirements of 29 CFR 1910.7. This preliminary finding does not constitute an interim or temporary approval of the request.

OSHA welcomes public comment as to whether PTL meets the requirements of 29 CFR 1910.7 for renewal of their recognition as a NRTL. Comments should consist of pertinent written documents and exhibits. Commenters needing more time to comment must submit a request in writing, stating the reasons for the request. OSHA must receive the written request for an extension by the due date for comments. OSHA will limit any extension to 30 days unless the requester justifies a longer period. OSHA may deny a request for an extension if it is not adequately justified. To obtain or review copies of the publicly available information in PTL's application and other pertinent documents (including exhibits), as well as all submitted comments, contact the Docket Office, at the above address; these materials also are available online at https://www.regulations.gov under Docket No. OSHA-2010-0013.

The NRTL Program staff will review all comments to the docket submitted in a timely manner and, after addressing the issues raised by these comments, will make a recommendation to the Assistant Secretary on whether to grant PTL's application for renewal. The Assistant Secretary will make the final decision on granting the application and, in making this decision, may undertake other proceedings prescribed in Appendix A to 29 CFR 1910.7.

OSHA will publish a public notice of this final decision in the Federal Register.

III. Authority and Signature

Amanda L. Edens, Deputy Assistant Secretary of Labor for Occupational Safety and Health, 200 Constitution Avenue NW, Washington, DC 20210, authorized the preparation of this notice. Accordingly, the agency is issuing this notice pursuant to 29 U.S.C. 657(g)(2)), Secretary of Labor's Order No. 8-2020 (85 FR 58393, Sept. 18, 2020), and 29 CFR 1910.7.

Signed at Washington, DC, on January 28, 2021.
Amanda L. Edens,
Deputy Assistant Secretary of Labor for Occupational Safety and Health.

[FR Doc. 2021-02209 Filed 2-2-21; 8:45 am]

BILLING CODE 4510-26-P